DEPARTMENT OF JUSTICE

Notice of Lodging of Proposed Consent Decree Under the Comprehensive Environmental Response, Compensation and Liability Act

On October 9, 2019, the Department of Justice lodged a proposed consent decree with the United States District Court for the District of Massachusetts in United States v. Textron Inc., and Whittaker Corporation, Civil Action No. 19-cv-12097-RGS.

The proposed consent decree would resolve the claims of the United States for injunctive relief and recovery of response costs against the defendants under sections 106 and 107 of the Comprehensive Environmental Response, Compensation, and Liability Act (“CERCLA”) relating to the Nuclear Metals, Inc. Superfund Site in Concord, Massachusetts.

The consent decree requires the settling defendants, Textron Inc. and Whittaker Corporation, to pay approximately $8,000 toward the United States Environmental Protection Agency's (“EPA's”) past response costs, contribute approximately $2 million into a trust account, and perform the remedial action for this Site using funds from the trust account. The consent decree also requires the settling federal agencies, the U.S. Army and the U.S. Department of Energy, to pay approximately $390,000 toward EPA's past response costs and contribute approximately $101 million into the trust account to be used by the settling defendants to perform the remedial action for this Site.

The publication of this notice opens a period for public comment on the consent decree. Comments should be addressed to the Assistant Attorney General, Environment and Natural Resources Division, and should refer to United States v. Textron Inc., and Whittaker Corporation, D.J. Ref. No. 90-11-2-07237/12. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $121.25 (25 cents per page reproduction cost) payable to the United States Treasury. For a copy without the exhibits, the cost is $12.50.

Jeffrey Sands,
Assistant Section Chief, Environmental Enforcement Section, Environment and Natural Resources Division.

[FR Doc. 2019-22637 Filed 10-16-19; 8:45 am]

BILLING CODE 4410-15-P